DEPARTMENT OF ENERGY

Federal Energy Regulatory Commission

[Project No. 2479-011]

Pacific Gas and Electric Company; Notice of Application Tendered for Filing With the Commission, and Establishing Procedural Schedule for Licensing and Deadline for Submission of Final Amendments

Take notice that the following transmission line only project application has been filed with the Commission and is available for public inspection.

a. Type of Application: Subsequent License—Transmission Line Only.

b. Project No: P-2479-011.

c. Date Filed: February 22, 2011.

d. Applicant: Pacific Gas and Electric Company.

e. Name of Project: French Meadows Transmission Line Project.

f. Location: The French Meadows Transmission Line Project is located in Placer County, California, within the boundaries of the Eldorado and Tahoe National Forests.

g. Filed Pursuant to: Federal Power Act 16 U.S.C. 791(a)-825(r).

h. Applicant Contact: Forrest Sullivan, Senior Project Manager, Pacific Gas and Electric Company, 5555 Florin Perkins Road, Sacramento, CA, 95826. Tel: (916) 386-5580.

i. FERC Contact: Mary Greene, (202) 502-8865 or mary.greene@ferc.gov.

j. Status: This application is not ready for environmental analysis at this time.

k. Description of Project: The Project is connected with The Middle Fork American River Hydroelectric Project, FERC Project No. 2079, owned and operated by the Placer County Water Agency (PCWA). The Project consists of a 3-phase, 60-kilovolt, wood-pole transmission line extending 13.27 miles from PCWA's French Meadows powerhouse switchyard to PCWA's Middle Fork powerhouse (feature of Project 2079). The Project includes a 3-phase, 60-kV transmission line extending approximately 900 feet from PCWA's Oxbow powerhouse (feature of Project 2079) to the interconnection at PG&E's Weimar #1 60 kV transmission line. The transmission line right-of-way is 40 feet in width for its entire length. The Project also includes a 230-kV tap at PCWA's Ralston powerhouse. The tap is wholly contained within the switchyard at Ralston powerhouse.

The French Meadows 60-kV transmission line is entirely within the boundaries of the Eldorado National Forest, and the Oxbow 60-kV tap is entirely within the boundaries of the Tahoe National Forest. The combined length of the two 60-kV transmission lines on National Forest System lands is 6.58 miles: 6.42 miles in the Eldorado National Forest and 0.16 mile in the Tahoe National Forest. Approximately 6.69 miles of the French Meadows 60-kV transmission line are located on private lands within the boundary of the Eldorado National Forest. The Oxbow tap is located entirely on National Forest System lands.

PG&E is not proposing to modify the existing Project and does not plan any changes to the operation or maintenance of the transmission line.

l. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

m. With this notice, we are initiating consultation with the California State Historic Preservation Officer (SHPO), as required by section 106, National Historic Preservation Act, and the regulations of the Advisory Council on Historic Preservation, 36 CFR 800.4.

n. Procedural schedule and final amendments: This application will be processed according to the following Licensing Schedule. Revisions to the schedule will be made if the Commission determines it necessary to do so.

Milestone | Tentative date
Notice of Acceptance/Notice of Ready for Environmental Analysis | March 31, 2011.
Filing of recommendations, preliminary terms and conditions, and fishway prescriptions | May 30, 2011.
Commission issues EA | September 27, 2011.
Comments on EA | October 27, 2011.
Modified Terms and Conditions | December 26, 2012.

Final amendments to the application must be filed with the Commission no later than 30 days from the issuance date of the notice soliciting final terms and conditions.

Dated: March 4, 2011.
Kimberly D. Bose,
Secretary.

[FR Doc. 2011-5482 Filed 3-9-11; 8:45 am]

BILLING CODE 6717-01-P